DEPARTMENT OF AGRICULTURE

Forest Service

Bear Knoll Timber Management Project, Mt. Hood National Forest, Wasco County, OR

AGENCY: Forest Service, USDA.

ACTION: Cancellation notice.

SUMMARY: On May 2, 2002, a Notice of Intent (NOI) to prepare an environmental impact statement (EIS) for the Bear Knoll Timber Management Project on the Hood River Ranger District of the Mt. Hood National Forest, was published in the Federal Register (67 FR 22049). The Forest Service has decided to cancel the preparation of this EIS. The NOI is hereby rescinded

FOR FURTHER INFORMATION CONTACT: Questions may be addressed to Mike Redmond, Environmental Coordinator, 16400 Champion Way, Sandy, Oregon 97055-7248 (phone: 503-668-1776).

Dated: April 20, 2004.
Gary L. Larsen,
Forest Supervisor.

[FR Doc. 04-10648 Filed 5-10-04; 8:45 am]

BILLING CODE 3410-11-M